DEPARTMENT OF HEALTH AND HUMAN SERVICES

Centers for Medicare & Medicaid Services

[CMS-1764-N]

Medicare Program; Announcement of the Advisory Panel on Hospital Outpatient Payment Meeting

AGENCY: Centers for Medicare & Medicaid Services (CMS), HHS.

ACTION: Notice of meeting.

SUMMARY: This notice announces a virtual meeting of the Advisory Panel on Hospital Outpatient Payment (the Panel) for Calendar Year 2021. The purpose of the Panel is to advise the Secretary of the Department of Health and Human Services and the Administrator of the Centers for Medicare & Medicaid Services concerning the clinical integrity of the Ambulatory Payment Classification groups and their associated weights, and supervision of hospital outpatient therapeutic services. The advice provided by the Panel will be considered as we prepare the annual updates for the hospital outpatient prospective payment system.

DATES: Meeting date: The virtual meeting of the Panel is scheduled for Monday, August 23, 2021, from 9:30 a.m. to 5:00 p.m. Eastern Daylight Time (EDT). The times listed in this notice are EDT and are approximate times. Consequently, the meetings may last longer or be shorter than the times listed in this notice, but would not begin before the posted time.

Deadline for presentations and comment letters: Presentations or comment letters, and form CMS-20017 (located at https://www.cms.gov/Medicare/CMS-Forms/CMS-Forms/downloads/cms20017.pdf), must be received by 5:00 p.m. EDT, Friday, August 6, 2021. We note that form CMS-20017 must accompany each presentation or comment letter submission. Presentations and comment letters that are not received by the due date and time, or that do not include a completed form CMS-20017 are considered late or incomplete, and cannot be included on the agenda. In commenting, refer to file code CMS-1764-N.

Meeting Registration Timeframe: All presentation or comment letter speakers, including any alternates, with items on the agenda must register electronically to our Panel mailbox, APCPanel@cms.hhs.gov no later than 5:00 p.m. EDT, Friday, August 6, 2021. The subject of the email may state “Agenda Speaker Registration for HOP Panel Meeting.”

ADDRESSES: Meeting location and webinar: The meeting will be held virtually. The public may participate in this meeting by webinar, or listen-only via teleconference. Closed captioning will be available on the webinar. Teleconference dial-in and webinar information will appear on the final meeting agenda, which will be posted on our website when available at: https://www.cms.gov/Regulations-and-Guidance/Guidance/FACA/AdvisoryPanelonAmbulatoryPaymentClassificationGroups.

News media: Press inquiries are handled through the CMS Press Office at (202) 690-6145.

Advisory committees information line: The telephone number for the Advisory Panel on Hospital Outpatient Payment Committee Hotline is (410) 786-3985.

Websites: For additional information on the Panel, including the Panel charter, and updates to the Panel's activities, we refer readers to view our website at: https://www.cms.gov/Regulations-and-Guidance/Guidance/FACA/AdvisoryPanelonAmbulatoryPaymentClassificationGroups. Information about the Panel and its membership in the Federal Advisory Committee Act (FACA) database are also located at: https://www.facadatabase.gov.

FOR FURTHER INFORMATION CONTACT: Elise Barringer, Designated Federal Official (DFO) (410) 786-9222, email at: APCPanel@cms.hhs.gov.

SUPPLEMENTARY INFORMATION:

I. Background

The Secretary of the Department of Health and Human Services (the Secretary) is required by section 1833(t)(9)(A) of the Social Security Act (the Act) and is allowed by section 222 of the Public Health Service Act (PHA) to consult with an expert outside Panel, such as the Advisory Panel on Hospital Outpatient Payment (the Panel), regarding the clinical integrity of the Ambulatory Payment Classification (APC) groups and relative payment weights. The Panel is governed by the provisions of the Federal Advisory Committee Act (Pub. L. 92-463), as amended (5 U.S.C. Appendix 2), to set forth standards for the formation and use of advisory Panels. We consider the technical advice provided by the Panel as we prepare the proposed and final rules to update the Hospital Outpatient Prospective Payment System (OPPS) for the following calendar year (CY).

II. Annual Advisory Panel Meeting

A. Meeting Agenda

The agenda for the August 23, 2021 Panel meeting will provide for discussion and comment on the following topics as designated in the Panel's Charter:

• Addressing whether procedures within an APC group are similar both clinically and in terms of resource use.

• Reconfiguring APCs.

• Evaluating APC group weights.

• Reviewing packaging the cost of items and services, including drugs and devices, into procedures and services, including the methodology for packaging and the impact of packaging the cost of those items and services on APC group structure and payment.

• Removing procedures from the inpatient only list for payment under the OPPS.

• Using claims and cost report data for Centers for Medicare & Medicaid Services (CMS) determination of APC group costs.

• Addressing other technical issues concerning APC group structure.

• Evaluating the required level of supervision for hospital outpatient services.

• OPPS APC rates for covered Ambulatory Surgical Center (ASC) procedures.

The Agenda will be posted on our website at: https://www.cms.gov/Regulations-and-Guidance/Guidance/FACA/AdvisoryPanelonAmbulatoryPaymentClassificationGroups approximately 1 week before the meeting.

B. Meeting Information Updates

The actual meeting hours and days will be posted in the agenda. As information and updates regarding this webinar and listen-only teleconference, including the agenda, become available, they will be posted to our website at: https://www.cms.gov/Regulations-and-Guidance/Guidance/FACA/AdvisoryPanelonAmbulatoryPaymentClassificationGroups.

C. Presentations and Comment Letters

The subject matter of any presentation and comment letter must be within the scope of the Panel as designated in the Charter. Any presentations or comments outside of the scope of the Panel will be returned or requested for amendment. Unrelated topics include, but are not limited to: The conversion factor, charge compression, revisions to the cost report, pass-through payments, correct coding, new technology applications (including supporting information/documentation), provider payment adjustments, supervision of hospital outpatient diagnostic services, and the types of practitioners that are permitted to supervise hospital outpatient services. The Panel may not recommend that services be designated as nonsurgical extended duration therapeutic services. Presentations or Comment Letters that address OPPS APC rates as they relate to covered ASC procedures are within the scope of the Panel's charter; however, ASC payment rates, ASC payment indicators, the ASC covered procedures list, or other ASC payment system matters will be considered out of scope. The Panel may use data collected or developed by entities and organizations other than Department of Health and Human Services and CMS in conducting its review. We recommend organizations submit data for CMS staff and the Panel's review. All presentations are limited to 5 minutes, regardless of the number of individuals or organizations represented by a single presentation. Presenters may use their 5 minutes to present either one or more agenda items.

In the email, all of the following information must be submitted when registering:

• Speaker's name.

• Speaker's organization or company name.

• Company or organization that the speaker is representing that submitted a presentation or comment letter that is on the agenda.

• Email addresses to which materials regarding meeting registration and instructions on connecting to the meeting may be sent.

Registration details may not be revised once they are submitted. If registration details require changes, a new registration entry must be submitted by August 06, 2021. In addition, registration information must reflect individual-level content and not reflect an organization entry. Also, each individual may only register one person at a time (that is, one individual may not register multiple individuals at the same time).

A confirmation email will be sent upon receipt of the registration. The email will provide information to the speaker in preparation for the meeting.

Registration is only required for agenda speakers and alternates and must be submitted by the deadline specified above. We note that no registration is required for participants who plan to view the Panel meeting by webinar or listen teleconference.

Section 508 Compliance

For this meeting, we are aiming to have all presentations and comment letters available on our website. Materials on our website must be Section 508 compliant to ensure access to federal employees and members of the public with and without disabilities. We encourage presenters and commenters to reference the guidance on making documents section 508 compliant as they draft their submissions, and, whenever possible, to submit their presentations and comment letters in a 508 compliant form. Such guidance is available at: https://www.cms.gov/research-statistics-data-and-systems/cms-information-technology/section508.

We will review presentations and comment letters for 508 compliance and place compliant materials on our website. As resources permit, we will also convert non-compliant submissions to 508 compliant forms, and offer assistance to submitters who are making their submissions 508 compliant. All 508 compliant presentations and comment letters will be made available on the CMS website. If difficulties are encountered accessing the materials, contact the Designated Federal Official (DFO) (the DFO's address, email, and phone number are provided in the FOR FURTHER INFORMATION CONTACT section of this notice).

In order to consider presentations and/or comment letters, we will need to receive the following:

1. An email copy of the presentation or comment letters sent to the DFO mailbox: APCPanel@cms.hhs.gov.

2. Form CMS-20017, with complete contact information that includes the names, addresses, phone numbers, and email addresses for all presenters; comment letters; and a contact person who can answer any questions and provide revisions that are requested for the presentation or comment letter. Presenters and commenter letters must clearly explain the actions that they are requesting CMS take in the appropriate section of the form. A presenter or commenter's relationship with the organization that they represent must also be clearly listed.

• The form is available through the CMS Forms website at: https://www.cms.gov/Medicare/CMS-Forms/CMS-Forms/downloads/cms20017.pdf.

• We encourage submitters to make efforts to ensure that their presentations and comment letters are 508 compliant.

D. Formal Presentations

In addition to formal presentations (limited to 5 minutes total per presentation), there will be an opportunity during the meeting for public comments as time permits (limited to 1 minute for each individual and a total of 3 minutes per organization).

E. Panel Recommendations and Discussions

The Panel's recommendations at any Panel meeting generally are not final until they have been reviewed and approved by the Panel on the last day of the meeting, before the final adjournment. These recommendations will be posted to our website after the meeting.

F. Membership Appointments to the Advisory Panel on Hospital Outpatient Payment

The Panel Charter provides that the Panel may meet up to 3 times annually. We consider the technical advice provided by the Panel as we prepare the proposed and final rules to update the OPPS for the following calendar year. The Panel may consist of a chair and up to 15 members who are full-time employees of hospitals, hospital systems, or other Medicare providers that are subject to the OPPS. The Panel may also include a representative of the provider with ASC expertise, who may advise CMS only on OPPS APC rates, as appropriate, impacting ASC covered procedures within the context and purview of the Panel's scope. The Secretary or a designee selects the Panel membership based upon either self-nominations or nominations submitted by Medicare providers and other interested organizations of candidates determined to have the required expertise. For supervision deliberations, the Panel may include members that represent the interests of Critical Access Hospitals, who advise CMS only regarding the level of supervision for hospital outpatient therapeutic services. New appointments are made in a manner that ensures a balanced membership under the FACA guidelines. The Secretary rechartered the Panel in 2020 for a 2-year period effective through November 20, 2022. The current charter is available on the CMS website at: https://www.cms.gov/files/document/2020-hop-panel-charter.pdf. The Panel presently consists of members and a Chair named below.

• E.L. Hambrick, M.D., J.D., CMS Chairperson

• Terry Bohlke, C.P.A., C.M.A, M.H.A., C.A.S.C

• Carmen Cooper-Oguz, P.T., D.P.T, M.B.A, C.W.S, W.C.C

• Paul Courtney, M.D.

• Peter Duffy, M.D.

• Lisa Gangarosa, M.D.

• Michael Kuettel, M.D., M.B.A, Ph.D.

• Scott Manaker, M.D., Ph.D.

• Brian Nester, D.O., M.B.A.

• Bo Gately, M.B.A.

• Matthew Wheatley, M.D., F.A.C.E.P.

III. Collection of Information Requirements

This document does not impose information collection requirements, that is, reporting, recordkeeping or third-party disclosure requirements. Consequently, there is no need for review by the Office of Management and Budget under the authority of the Paperwork Reduction Act of 1995 (44 U.S.C. 3501 et seq.).

The Administrator of the Centers for Medicare & Medicaid Services (CMS), Chiquita Brooks-LaSure, having reviewed and approved this document, authorizes Lynette Wilson, who is the Federal Register Liaison, to electronically sign this document for purposes of publication in the Federal Register.

Dated: July 20, 2021.
Lynette Wilson,
Federal Register Liaison, Centers for Medicare & Medicaid Services.

[FR Doc. 2021-15727 Filed 7-22-21; 8:45 am]

BILLING CODE 4120-01-P